DEPARTMENT OF ENERGY

Federal Energy Regulatory Commission

[Docket No. CP00-135-000]

Texas Gas Transmission Corporation, Tennessee Gas Pipeline Company; Notice of Application

March 31, 2000.

Take notice that on March 23, 2000, Texas Gas Transmission Corporation (Texas Gas), P.O. Box 20008, Owensboro, Kentucky 42304, and Tennessee Gas Pipeline Company (Tennessee), 1001 Louisiana, P.O. Box 2511, Houston, Texas 77252-2511, filed in Docket No. CP00-135-000 an application pursuant to Sections 7(b) and 7(c) of the Natural Gas Act for permission and approval for Texas Gas to abandon by sale its interest in certain jointly owned supply lateral facilities in offshore Louisiana and for Tennessee to acquire and own these facilities, all as more fully set forth in the application which is on file with the Commission and open to public inspection. This filing may be viewed on the web at http://www.ferc.fed.us/online/rims.htm (call 202-208-2222; for assistance).

The joint application requests authorization for (1) Texas Gas to abandon by sale to Tennessee its interest in certain jointly owned supply lateral facilities and appurtenances in the Eugene Island and ship Shoal areas, offshore Louisiana, and (2) Tennessee to acquire and own Texas Gas' interest in such facilities.

Texas Gas declares that these facilities are no longer integral to their current role as an open access transporter and abandonment of its interest in the subject facilities will enable Texas Gas to streamline its transmission operations. Tennessee states that after approval is granted for the acquisition by Tennessee of Texas Gas' interest in these facilities, any shippers desiring access to the supplies attached to these laterals will be able to obtain transportation service from Tennessee pursuant to its Commission-approved tariff, thus none of the interruptible shippers currently utilizing Texas Gas' capacity in these facilities will be subject to a diminution or termination of service.

Tennessee declares that it will pay $102,870.79 for Texas Gas' interest in the identified supply lateral facilities. Texas Gas states that it has agreed to reimburse Tennessee for actual costs incurred by Tennessee not to exceed $100,000 for reconditioning the Eugene Island 342C pipeline in return for Tennessee's assumption of all retirement and abandonment costs associated with the facilities.

Any questions regarding the application should be directed to David N. Roberts, Manager of Certificates and Tariffs, at (270) 688-6712, Texas Gas Transmission Corporation, P.O. Box 20008, Owensboro, Kentucky 42304.

Any person desiring to be heard or to make any protest with reference to said Application should on or before April 21, 2000, file with the Federal Energy Regulatory Commission, 888 First Street, NE, Washington, DC 20426, a motion to intervene or a protest in accordance with the requirements of the Commission's Rules of Practice and Procedure (18 CFR 385.211 or 18 CFR 385.214) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that pursuant to the authority contained in and subject to the jurisdiction conferred upon the Commission by Sections 7 and 15 of the Natural Gas Act and the Commission's Rules of Practice and Procedure, a hearing will be held without further notice before the Commission or its designee on this Application if no petition to intervene is filed within the time required herein, if the Commission on its own review of the matter finds that a grant of the abandonment is required by the public convenience and necessity. If a petition for leave to intervene is timely filed, or if the Commission, on its own motion believes that a formal hearing is required, further notice of such hearing will be duly given.

Under the procedure herein provided for, unless otherwise advised, it will be unnecessary for Applicant to appear or be represented at the hearing.

Linwood A. Watson, Jr.,
Acting Secretary.

[FR Doc. 00-8467 Filed 4-5-00; 8:45 am]

BILLING CODE 6717-01-M